DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before June 19, 2009.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-001-M.

Petitioner: General Chemical (Soda Ash) Partners, P.O. Box 551, Green River, Wyoming 82935.

Mine: General Chemical Mine, MSHA I.D. No. 48-00155, located in Sweetwater County, Wyoming.

Regulation Affected: 30 CFR 57.22305 (Approved equipment (III mines)).

Modification Request: The petitioner requests a modification of the existing standard to permit an increase in the length of portable trailing cables, which is longer than the maximum length set forth in 30 CFR Appendix,1, Table 9, to enable safe handling practice of the cable in regards to their mining operation. The petitioner states that currently, the boring machines are approved for use with #2 American Wire Gauge (AWG) trailing cable. The petitioner proposes the following for its General Chemical Mine in Green River, Wyoming: (1) The maximum length for portable trailing cables in regards to power distributed to its boring machines will be 1,200 feet for cable sizes #2/0 AWG, #10 AWG, #1 AWG, and #2 AWG; (2) all instantaneous trip settings for over-current will be maintained at a level below the minimum available fault current calculated, using the MSHA short circuit program “Scwin”; (3) interrupt ratings for all breakers in the distribution circuit will be high enough to interrupt the maximum available fault current as calculated using the MSHA short circuit program “Scwin”; and (4) power distribution circuits pertaining to bore mining sections will be maintained on a typical basis in reference to the typical power distribution in effect at the time of investigation for this modification, whereby cable lengths in the distribution circuit leading up to the Load Center at the bore section will be maintained no longer than those proposed in the Short Circuit calculations, using the MSHA program “Scwin” at the time of this petition. The petitioner asserts that an equal measure of protection will be maintained at all times as that afforded by the standard.

Docket Number: M-2009-008-C.

Petitioner: M.C. Mining, LLC, 4126 State Highway 194 West, Pikeville, Kentucky 41501.

Mine: Mine No. 3, MSHA I.D. No. 15-08079, located in Pike County, Kentucky.

Regulation Affected: 30 CFR 75.503(18.35) (Permissible electric face equipment; maintenance).

Modification Request: The petitioner requests a modification of the existing standard to permit the maximum length of trailing cables to be increased for supplying power to permissible pumps used in the mine. The petitioner states that: (1) This petition will only apply to trailing cables supplying three-phase, 575-volt power to permissible pumps; (2) the maximum length of the trailing cables will be 1,597 feet; (3) the 575-volt permissible pump trailing cable will not be smaller than #6 American Wire Gauge (AWG); (3) all circuit breakers used to protect #6 trailing cables exceeding 500 feet in length will have an instantaneous trip unit calibrated to trip at 150 amperes, the trip setting will be sealed or locked and breakers will have permanent legible labels, and each label will identify the circuit breaker as being suitable for protecting #6 cables. The label will be maintained legible; (5) persons designated by the operator will visually examine the trailing cables to ensure the cable is in safe operating condition; (6) trailing cables that are not in safe operating condition will be removed from services immediately and repaired or replaced; (7) each splice or repair in the trailing cables will be made in a workmanlike manner and in accordance with the instructions of the manufacturer of the splice or repair materials. The splice or repair will comply with 30 CFR 75.603 and 30 CFR 75.604; (8) permanent warning labels will be installed and maintained on the cover(s) of the power center to identify the location of each sealed or locked short-circuit protection device. These labels will warn miners not to change or alter these short-circuit settings; (9) the alternative method will not be implemented until the miners designated to examine the integrity of seals or locks, verify the short-circuit settings, and proper procedures for examining trailing cables for defects and damage have received the elements of the specified training; and (10) proposed revisions for Part 48 training plans will be submitted to the District Manager within 60 days after the petition is granted for the area in which the mine is located, which will include training in the proper procedures for examining the trailing cables to ensure safe operating condition, and training in how to verify that circuit interrupting device(s) protecting the trailing cable(s) are properly set and maintained.

Docket Number: M-2009-009-C.

Petitioner: Twentymile Coal Company, Three Gateway Center, suite 1340, 401 Liberty Avenue, Pittsburgh, Pennsylvania 15222.

Mine: Foidel Creek Mine, MSHA I.D. No. 05-03836, located in Routt County, Colorado. Regulation Affected: 30 CFR 75.312(c) & (d) (Maine mine fan examination and records).

Modification Request: The petitioner requests a modification of the existing standard to permit fan-stoppage devices and automatic closing doors to be tested without stopping the mine fan. The petitioner proposes the following alternative procedure for testing the fans: (a) The fan door will be installed according to drawings approved by MSHA, and the fan alarm signal will be installed according to MSHA requirements, including the warning light near the door location and an audible and visual alarm at the dispatcher and communication center locations; (b) air reversal doors will be tested every seven days by rotating the test frame outward until it contacts the air flow reversal door; (c) the person conducting the test will make a visual observation of the movement of the test frame and general maintenance of the metal door and frame for good repair; (d) the fan alarm signal system (mechanical switch) which is mounted to the fan house, will be tested by a responsible person every seven days by actuating the switch; (e) the actuating of the fan alarm switch will be verified by a responsible person with the communication center and the dispatcher; (f) the person who made the tests will record the results in a secure book at a surface location by the end of the shift on which the tests were made. The book will also indicate the general repair of the system and will be made available to representatives of the Secretary. The petitioner states that the MSHA District Manager will be notified regarding future testing of additional air reversal fan doors, when each fan is equipped with the new test frame system, so that an inspection may be scheduled prior to the seven day testing. The petitioner further states that until all main fans are equipped in compliance with the approved system, miners must be removed from the mine for testing of any fan not yet equipped. The petitioner asserts that the proposed alternative method will at all times guarantee no less than the same measure of protection to all miners as would be provided by the standard.

Docket Number: M-2009-010-C.

Petitioner: Frasure Creek Mining, LLC, P.O. Box 142, Justice, West Virginia 24851. Mines: No. 5 Mine, MSHA I.D. No. 46-08942, Deep Mine No. 15, MSHA I.D. No. 46-09209, located in Fayette County, West Virginia, and Isaban Deep Mine No. 3, MSHA I.D. No. 46-09245, located in Mingo County, West Virginia.

Regulation Affected: 30 CFR 75.1101-1(b) (Deluge-type water spray systems).

Modification Request: The petitioner requests a modification of the existing standard to permit blow-off dust covers to be used without the nozzles. The petitioner proposes to continue its weekly inspections and functional testing of the complete deluge-type water spray system. The petitioner states that dust covers are not necessary because the nozzles can be maintained in an unclogged condition through weekly use. The petitioner further states that it is burdensome to recap the large number of covers weekly after each inspection and functional test. The petitioner asserts that the proposed alternative method will at all times guarantee no less than the same measure of protection afforded the miners by the existing standard.

Docket Number: M-2009-012-C.

Petitioner: Wolf Run Mining Company, 1 Edmiston Way, Buckhannon, West Virginia 26201.

Mines: Imperial Mine, MSHA I.D. No. 46-09115, located in Upshur County, West Virginia.

Regulation Affected: 30 CFR 75.1101-1(b) (Deluge-type water spray systems).

Modification Request: The petitioner requests a modification of the existing standard to permit blow-off dust covers not to be applied to nozzles on deluge-type systems. The petitioner states that: (1) The functional test required each year under 30 CFR 75.1101-11 will be done weekly; (2) functional tests are currently being done a weekly basis and although more than adequate pressure and flow rates are being maintained for these deluge systems, in some tests, the dust covers do not come off all sprays; (3) by doing this functional test weekly, all sprays can be inspected and maintained on a weekly basis. The dust covers provide protection for sprays which are tested yearly, and by testing weekly, the covers are not necessary. The petitioner asserts that the proposed alternative method will at all times guarantee no less than the same measure of protection afforded by the existing standard.

Patricia W. Silvey,
Director, Office of Standards, Regulations and Variances.

[FR Doc. E9-11673 Filed 5-19-09; 8:45 am]

BILLING CODE 4510-43-P